DEPARTMENT OF COMMERCE

National Oceanic and Atmospheric Administration

RIN 0648-XC059

Endangered Species; File No. 17022

AGENCY: National Marine Fisheries Service (NMFS), National Oceanic and Atmospheric Administration (NOAA), Commerce.

ACTION: Issuance of permit.

SUMMARY: Notice is hereby given that the NMFS Pacific Islands Fisheries Science Center (PIFSC; Samuel Pooley, Ph.D., Responsible Party), has been issued a permit to take green (Chelonia mydas) and hawksbill (Eretmochelys imbricata) sea turtles for purposes of scientific research.

ADDRESSES: The permit and related documents are available for review upon written request or by appointment in the following offices:

Permits and Conservation Division, Office of Protected Resources, NMFS, 1315 East-West Highway, Room 13705, Silver Spring, MD 20910; phone (301) 427-8401; fax (301) 713-0376; and

Pacific Islands Region, NMFS, 1601 Kapiolani Blvd., Rm 1110, Honolulu, HI 96814-4700; phone (808) 944-2200; fax (808) 973-2941;

FOR FURTHER INFORMATION CONTACT: Amy Hapeman or Rosa L. González, (301) 427-8401.

SUPPLEMENTARY INFORMATION: On June 25, 2012, notice was published in the Federal Register (77 FR 37877) that a request for a scientific research permit to take green and hawksbill sea turtles had been submitted by the above-named organization. The requested permit has been issued under the authority of the Endangered Species Act of 1973, as amended (ESA; 16 U.S.C. 1531 et seq.), and the regulations governing the taking, importing, and exporting of endangered and threatened species (50 CFR parts 222-226).

The PIFSC is authorized to begin long-term monitoring of green and hawksbill sea turtles in the remote U.S. Islands and Territories excluding Hawaii in the Central Pacific to estimate sea turtle abundance, size ranges, health status, habitat use, foraging ecology, local movements, and migration routes. Researchers may capture, examine, measure, flipper and passive integrated transponder tag, weigh, skin and blood sample, and/or attach transmitters on sea turtles before release. Researchers also may collect the carcasses, tissues and parts of dead sea turtles encountered during surveys. The permit is valid for five years.

Issuance of this permit, as required by the ESA, was based on a finding that such permit (1) Was applied for in good faith, (2) will not operate to the disadvantage of such endangered or threatened species, and (3) is consistent with the purposes and policies set forth in section 2 of the ESA.

Dated: March 11, 2013.
P. Michael Payne,
Chief, Permits and Conservation Division, Office of Protected Resources, National Marine Fisheries Service.

[FR Doc. 2013-05896 Filed 3-13-13; 8:45 am]

BILLING CODE 3510-22-P